DEPARTMENT OF HOMELAND SECURITY

Coast Guard

[Docket No. USCG-2011-0138]

Merchant Mariner Medical Advisory Committee

AGENCY: Coast Guard, Department of Homeland Security.

ACTION: Notice of Federal Advisory Committee Meeting.

SUMMARY: The Merchant Mariner Medical Advisory Committee will meet to discuss matters relating to medical certification determinations for issuance of licenses, certificates of registry, merchant mariners' documents, medical standards and guidelines for the physical qualifications of operators of commercial vessels, medical examiner education, and medical research. The meeting will be open to the public.

DATES: The Merchant Mariner Medical Advisory Committee is scheduled to meet on Monday, March 16 and Tuesday, March 17, 2015, from 8 a.m. to 5 p.m. Please note that the meeting may close early if the committee has completed its business. This meeting will be held as scheduled subject to the availability of funds. Anyone interested in attending this meeting may want to contact the Coast Guard before making their travel and hotel reservations. Please contact Lieutenant Ashley Holm, Alternate Designated Federal Officer for the Merchant Mariner Medical Advisory Committee, to confirm that the meeting will be held on these dates or if the meeting has been re-scheduled. All submitted written materials, comments, and requests to make oral presentations at the meeting should reach Lieutenant Ashley Holm no later than March 13, 2015. For contact information, please see the FOR FURTHER INFORMATION CONTACT section below. Any written material submitted by the public both before and after the meeting will be distributed to the Merchant Mariner Medical Advisory Committee and become part of the public record.

ADDRESSES: The meeting will be held at the Astor Crowne Plaza Hotel, St. Charles Ballroom B, 739 Canal Street at Bourbon, New Orleans, LA 70130 (www.astorneworleans.com). For further information about the hotel facilities, please contact the front desk at (504) 962-0500.

For information on services for individuals with disabilities or to request special assistance at the meeting, contact the individual listed in the FOR FURTHER INFORMATION CONTACT section as soon as possible. For planning purposes, please notify the Merchant Mariner Medical Advisory Committee Alternate Designated Federal Officer of your attendance as soon as possible.

Hotel Reservations: A block of rooms have been reserved at a group rate from Sunday, March 15 through Wednesday, March 18, 2015 at the Astor Crowne Plaza Hotel for the Merchant Mariner Medical Advisory Committee meeting attendees. Availability is limited. To make a reservation please visit the following Web site: https://aws.passkey.com/event/12834543/owner/10756/landing. Select “attendee” from the dropdown menu.

If you plan on attending the Merchant Marine Personnel Advisory Committee meeting being held March 18-19, 2015 following the Merchant Mariner Medical Advisory Committee, a separate hotel reservation will need to be made under a different block. To make a reservation for the Merchant Marine Personnel Advisory Committee meeting please visit the following Web site: https://aws.passkey.com/event/12834866/owner/10756/home. To secure the group rate, reservations under both committee blocks must be made no later than March 13, 2015.

To facilitate public participation, we are inviting public comment on the issues to be considered by the committee as listed in the “Agenda” section below. Written comments must be submitted no later than March 13, 2015, in order for committee members to review comments before the meeting, and must be identified by docket number USCG-2011-0138 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions must include the words “Department of Homeland Security” and the docket number for this action. All comments submitted will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2011-0138 in the “SEARCH” box, press Enter and then click on the item you wish to view.

A public comment period will be held on March 16, 2015, from approximately 11 a.m.-11:30 a.m. Speakers are requested to limit their comments to 5 minutes. Please note that the public comment period may end before the time indicated, following the last call for comments. Additionally, public comment will be sought throughout the meeting as specific issues are discussed by the committee. Contact Lieutenant Ashley Holm as indicated below to register as a speaker.

FOR FURTHER INFORMATION CONTACT: Lieutenant Ashley Holm, Alternate Designated Federal Officer for the Merchant Mariner Medical Advisory Committee, at telephone 202-372-1128 or email Ashley.e.holm@uscg.mil. If you have any questions on viewing or submitting material to the docket, call Ms. Cheryl Collins, Program Manager, Docket Operations, telephone 202-366-9826 or 1-800-647-5527.

SUPPLEMENTARY INFORMATION: Notice of this meeting is given under the Federal Advisory Committee Act, 5 United States Code Appendix. The Merchant Mariner Medical Advisory Committee Meeting is authorized by 46 United States Code 7115 and advises the Secretary on matters related to (a) medical certification determinations for issuance of licenses, certificates of registry, and merchant mariners' documents; (b) medical standards and guidelines for the physical qualifications of operators of commercial vessels; (c) medical examiner education; and (d) medical research.

A copy of all meeting documentation is available at https://homeport.uscg.mil by using these key strokes: Missions; Port and Waterways; Safety Advisory Committees; MEDMAC and then use the announcements key. Alternatively, you may contact Lieutenant Ashley Holm as noted in the FOR FURTHER INFORMATION CONTACT section above.

Agenda:

Day 1

The agenda for the March 16, 2015 meeting is as follows:

(1) Opening remarks from Coast Guard leadership.

(2) Opening remarks from the Designated Federal Officer.

(3) Roll call of committee members and determination of a quorum.

(4) Review of last full committee meeting's minutes.

(5) Public comments.

(6) Introduction of new task(s).

(7) Working Groups addressing the following task statements may meet to deliberate—

(a) Task Statement 1, Revision of Navigation and Vessel Inspection Circular 04-08. The Navigation and Vessel Inspection Circular can be found at http://www.uscg.mil/hq/cg5/nvic/, Medical and Physical Guidelines for Merchant Mariner Credentials.

(b) The Committee will receive new task statements from the Coast Guard, review the information presented on each issue, deliberate and formulate recommendations for the Department's consideration.

(8) Adjournment of meeting.

Day 2

The agenda for the March 17, 2015 meeting is as follows:

(1) Continue work on Task Statements.

(2) By mid-afternoon, the Working Groups will report, and if applicable, make recommendations for the full committee to consider for presentation to the Coast Guard. The committee may vote on the working group's recommendations on this date. The public will have an opportunity to speak after each Working Group's Report before the full committee takes any action on each report.

(3) Closing remarks/plans for next meeting.

(4) Adjournment of Meeting.

Dated: March 3, 2015.
P.F. Thomas,
Assistant Commandant for Prevention Policy, United States Coast Guard.

[FR Doc. 2015-05369 Filed 3-5-15; 8:45 am]

BILLING CODE 9110-04-P